DEPARTMENT OF ENERGY

Federal Energy Regulatory Commission

[Project No.: 2277-023]

Union Electric Company, dba AmerenUE; Notice of Application Tendered for Filing With the Commission, Soliciting Additional Study Requests, and Establishing Procedural Schedule for Relicensing and a Deadline for Submission of Final Amendments

July 2, 2008.

Take notice that the following hydroelectric application has been filed with the Commission and is available for public inspection.

a. Type of Application: New Major License.

b. Project No.: 2277-023.

c. Date Filed: June 24, 2008.

d. Applicant: Union Electric Company, dba AmerenUE.

e. Name of Project: Taum Sauk Pumped Storage Project.

f. Location: The project is located on the East Fork Black River and Taum Sauk Creek, in Reynolds, Iron, St. Francois, and Washington counties, near the Town of Lesterville, Missouri. The project does not occupy any federal lands.

g. Filed Pursuant to: Federal Power Act 16 U.S.C. 791(a)-825(r).

h. Applicant Contact: Michael O. Lobbig, P.E., Managing Supervisor, Hydro Licensing, AmerenUE, 1901 Chouteau Avenue, St. Louis, MO 63103; mlobbig@ameren.com.

i. FERC Contact: Allan Creamer, Federal Energy Regulatory Commission, 888 First St., NE., Washington, DC 20426; 202-502-8365; allan.creamer@ferc.gov.

j. Cooperating agencies: We are asking Federal, State, local, and tribal agencies with jurisdiction and/or special expertise with respect to environmental issues to cooperate with us in the preparation of the environmental document. Agencies who would like to request cooperating status should follow the instructions for filing such requests described in item l below. Cooperating agencies should note the Commission's policy that agencies that cooperate in the preparation of the environmental document cannot also intervene. See 94 FERC ¶ 61,076 (2001).

k. Pursuant to 18 CFR Section 4.32(b)(7) of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: August 25, 2008.

All documents (original and eight copies) should be filed with: Kimberly D. Bose, Secretary, Federal Energy Regulatory Commission, 888 First Street, NE., Washington, DC 20426.

Additional study requests and requests for cooperating agency status may be filed electronically via the Internet in lieu of paper. The Commission strongly encourages electronic filings. See 18 CFR 385.2001(a)(1)(iii) and the instructions on the Commission's Web site (http://www.ferc.gov) under the “e-Filing” link.

m. This application is not ready for environmental analysis at this time.

n. The 408-megawatt (MW) Taum Sauk Project consists of the following principal features: (1) A roller compacted concrete dam, with (i) a crest elevation of 1,601.0 feet mean sea level (msl), (ii) 3.5-foot-high parapet walls to an elevation of 1,604.5 feet msl, and (iii) a 700-foot-long overflow release structure with a crest elevation of 1,599.0 feet msl; (2) a 54.5-acre upper reservoir, having a total useable volume of 4,360 acre-feet; (2) a 390-foot-long ogee-shaped concrete-gravity dam, with (i) a 26-foot-long gated sluice, (ii) a steel-lined conduit having a capacity of 2,500 cubic feet per second (cfs), (iii) a 16-inch, spiral-welded pipe having a capacity of 50 cfs, and (iv) a crest elevation of 750 msl; (3) a 363-acre lower reservoir, with normal maximum and minimum operating elevations of 749.5 and 736 feet msl and a total usable storage of 3,869 acre-feet; (4) a tunnel and penstock, having a total volume of 82.5 acre-feet, that consists of (i) a 451-foot-long lined and unlined vertical shaft, (ii) a two-section, 6,572-foot-long tunnel, and (iii) a short penstock that bifurcates into the powerhouse, (5) a concrete powerhouse equipped with two reversible pump generating units, each rated at 204 MW; (6) a 5,500-foot-long tailrace channel; (7) a sediment trap (about 400 feet in length, with a crest elevation of about 748.0 msl); and

(8) transmission and other appurtenant facilities. The project has an average annual generation of just over 497 gigawatt-hours (2000-2005).

AmerenUE is rebuilding the project's upper reservoir. However, AmerenUE proposes no changes to the existing pump-storage operation of the project, at this time. As part of the rebuild, AmerenUE will be installing a new water control system. In addition, AmerenUE and the resource agencies are assessing a new water management plan during the 2-year rebuild period. AmerenUE is not proposing any PM&Es (except for a 1.4-cfs flow in the river downstream from the project and a historic properties management plan, if needed), but will undertake studies and surveys aimed at providing information needed to develop its proposed environmental measures.

o. A copy of the application is available for review at the Commission in the Public Reference Room or may be viewed on the Commission's Web site at http://www.ferc.gov, using the “eLibrary” link. Enter the docket number, excluding the last three digits in the docket number field to access the document. For assistance, contact FERC Online Support at FERCOnlineSupport@ferc.gov, or toll-free at 1-866-208-3676, or for TTY, (202) 502-8659. A copy is also available for inspection and reproduction at the address in item h above.

You may also register online at http://www.ferc.gov/docs-filing/esubscription.asp to be notified via email of new filings and issuances related to this or other pending projects. For assistance, contact FERC Online Support.

p. With this notice, we are initiating consultation with the Missouri State Historic Preservation Officer (SHPO), as required by Section 106 of the National Historic Preservation Act, and the regulations of the Advisory Council on Historic Preservation, 36 CFR 800.4.

q. Procedural schedule and final amendments: The application will be processed according to the following Hydro Licensing Schedule. Revisions to the schedule will be made as appropriate.

Issue Deficiency Letter—August 2008

Request Additional Information—September 2008

Issue Acceptance letter—November 2008

Issue Scoping Document 1 for comments—April 2011

Request Additional Information—June 2011

Issue Scoping Document 2—July 2011

Notice of application is ready for environmental analysis—August 2011

Notice of the availability of the draft NEPA Document—February 2012

Notice of the availability of the final NEPA Document—June 2012

Final amendments to the application must be filed with the Commission no later than 30 days from the issuance date of the notice of ready for environmental analysis.

Kimberly D. Bose,
Secretary.

[FR Doc. E8-15702 Filed 7-9-08; 8:45 am]

BILLING CODE 6717-01-P